DEPARTMENT OF JUSTICE

Notice of Lodging of Consent Decree Under the Clean Air Act

Notice is hereby given that on April 16, 2010, a proposed Consent Decree in United States v. Mobil Oil Guam, Inc., and Mobil Oil Mariana Islands, Inc., Civil Action No. 10-00006, was lodged with the United States District Court for the District of Guam.

The proposed Consent Decree in this enforcement action against Defendants Mobil Oil Guam, Inc., and Mobil Oil Mariana Islands, Inc., resolves allegations by the U.S. Environmental Protection Agency in a complaint filed together with the Consent Decree that Defendants violated the Clean Air Act and regulations promulgated thereunder at their bulk gasoline terminals located in Guam and Saipan. The complaint sought injunctive relief and the assessment of civil penalties for violations of the New Source Performance Standards (“NSPS”) for volatile organic liquid storage vessels and bulk gasoline terminals in 40 CFR part 60, subparts A, Kb, and X, and National Emission Standards for Hazardous Air Pollutants (“NESHSAP”) for gasoline distribution facilities in 40 CFR part 63, Subparts A and R. Pursuant to the proposed Consent Decree, Defendants will reduce volatile organic compound and hazardous air pollutant emissions by bringing storage tanks and loading racks at their bulk gasoline terminals into compliance with the NSPS and NESHAP requirements by no later than December 31, 2011. The Consent Decree also requires Defendants to pay a $2,400,000 civil penalty.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Mobil Oil Guam, Inc., and Mobil Oil Mariana Islands, Inc., D.J. Ref. 90-5-2-1-09320.

The Consent Decree may be examined at the Office of the United States Attorney, Sirena Plaza, Suite 500, 108 Hernan Cortez Avenue, Hagatna, Guam, and at U.S. EPA Region 9, Office of Regional Counsel, 75 Hawthorne Street, San Francisco, California. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.00 (25 cents per page reproduction cost) payable to the U.S. Treasury or, if by e-mail or fax, forward a check in that amount to the Consent Decree Library at the stated address.

Maureen Katz,
Assistant Chief, Environmental Enforcement Section, Environment and Natural Resources Division.

[FR Doc. 2010-9192 Filed 4-20-10; 8:45 am]

BILLING CODE 4410-15-P